DEPARTMENT OF COMMERCE

National Oceanic and Atmospheric Administration

[I.D. 011201A]

Marine Mammals; File No. 358-1585

AGENCY: National Marine Fisheries Service (NMFS), National Oceanic and Atmospheric Administration (NOAA), Commerce.

ACTION: Issuance of permit.

SUMMARY: Notice is hereby given that the Alaska Department of Fish and Game (Dr. Wayne L. Regelin, Responsible Party), P.O. Box 3-2000, Juneau, Alaska 99802-5526, has been issued a permit to take harbor seals (Phoca vitulina), spotted seals (Phoca largha), ringed seals (Phoca hispida), bearded seals (Erignathus barbatus), and ribbon seals (Phoca fasciata) for purposes of scientific research.

ADDRESSES: The permit and related documents are available for review upon written request or by appointment in the following office(s):

Permits and Documentation Division, Office of Protected Resources, NMFS, 1315 East-West Highway, Room 13130, Silver Spring, MD 20910 (301/713-2289); and

Alaska Region, NMFS, P.O. Box 21668, Juneau, AK 99802-1668; phone (907)586-7221; fax (907)586-7249.

FOR FURTHER INFORMATION CONTACT: Simona Roberts or Ruth Johnson, 301/713-2289.

SUPPLEMENTARY INFORMATION: On August 25, 2000, notice was published in the Federal Register (65 FR 51811) that a request for a scientific research permit to take harbor seals, spotted seals, ringed seals, bearded seals and ribbon seals had been submitted by the above-named organization.

Permit No. 358-1585 authorizes the Holder to capture, sample and tag a total of 1000 harbor seals, 500 spotted seals, 250 ringed seals, 250 bearded seals and 250 ribbon seals over a 5-year period throughout Alaska. A limited number of accidental mortalities are authorized for all species during capture activities. Additionally, the permit authorizes the incidental harassment of harbor seals during scat collection and aerial surveys. Export of biological samples worldwide and collection of biological samples from subsistence harvested animals is also authorized.

The requested permit has been issued under the authority of the Marine Mammal Protection Act of 1972, as amended (16 U.S.C. 1361 et seq.) and the Regulations Governing the Taking and Importing of Marine Mammals (50 CFR part 216).

Dated: January 24, 2001.
Ann D. Terbush,
Chief, Permits and Documentation Division, Office of Protected Resources, National Marine Fisheries Service.

[FR Doc. 01-2578 Filed 1-29-01; 8:45 am]

BILLING CODE 3510-22-S